DEPARTMENT OF DEFENSE

Office of the Secretary

Renewal of Department of Defense Federal Advisory Committees—Defense Health Board

AGENCY: Department of Defense (DoD).

ACTION: Renewal of Federal Advisory Committee.

SUMMARY: The DoD is publishing this notice to announce that it is renewing the Defense Health Board (DHB).

FOR FURTHER INFORMATION CONTACT: Jim Freeman, DoD Advisory Committee Management Officer, 703-692-5952.

SUPPLEMENTARY INFORMATION: The DHB is being renewed in accordance with the Federal Advisory Committee Act (FACA) (5 U.S.C., App.) and 41 CFR 102-3.50(d). The charter and contact information for the DHB's Designated Federal Officer (DFO) are found at https://www.facadatabase.gov/FACA/apex/FACAPublicAgencyNavigation.

The DHB provides independent advice and recommendations to maximize the safety and quality of, as well as access to, health care for DoD health care beneficiaries. The DHB will focus on matters pertaining to a. DoD healthcare policy and program management; b. delivery of high-quality health care services to DoD beneficiaries; c. the promotion of health, wellness, and prevention within the DoD; d. the treatment of disease and injury by the DoD; e. health research priorities; and f. other health-related matters of special interest to the DoD, as determined by the Secretary of Defense, the Deputy Secretary of Defense, (“the DoD Appointing Authority”), or the Under Secretary of Defense for Personnel and Readiness. All DHB work will be in response to written terms of reference approved by the DoD Appointing Authority or the USD(P&R), unless otherwise provided by in statute or Presidential directive.

The DHB is composed of no more than 20 members, and as determined by the DoD Appointing Authority, the DHB's total parent-level and subcommittee level membership cannot exceed 50 members unless otherwise directed by the DoD Appointing Authority. Membership will consist of private and public healthcare leaders with a diversity of background, experience, and thought in support of the DHB's mission in one or more of the following disciplines: health systems, clinical health care, infectious disease, public health, trauma medicine, beneficiary representation, health informatics, patient care safety/quality care, neuroscience, and/or behavioral health. Individual members will be appointed according to DoD policy and procedures, and serve a term of service of one-to-four years with annual renewals. One member will be appointed as Chair of the DHB. No member, unless approved according to DoD policy and procedures, may serve more than two consecutive terms of service on the DHB, or serve on more than two DoD Federal advisory committees at one time.

DHB members who are not full-time or permanent part-time Federal civilian officers or employees, or active duty members of the Uniformed Services, will be appointed as experts or consultants pursuant to 5 U.S.C. 3109 to serve as special government employee members. DHB members who are full-time or permanent part-time Federal civilian officers or employees, or active duty members of the Uniformed Services, will be appointed pursuant to 41 CFR 102-3.130(a) to serve as regular government employee members.

All members of the DHB are appointed to exercise their own best judgment on behalf of the DoD, without representing any particular point of view, and to discuss and deliberate in a manner that is free from conflict of interest. Except for reimbursement of official DHB-related travel and per diem, members serve without compensation.

The public or interested organizations may submit written statements to the DHB membership about the DHB's mission and functions. Written statements may be submitted at any time or in response to the stated agenda of planned meeting of the DHB. All written statements shall be submitted to the DFO for the DHB, and this individual will ensure that the written statements are provided to the membership for their consideration.

Dated: December 2, 2022.
Aaron T. Siegel,
Alternate OSD Federal Register Liaison Officer, Department of Defense.

[FR Doc. 2022-26572 Filed 12-6-22; 8:45 am]

BILLING CODE 5001-06-P